DEPARTMENT OF THE INTERIOR

Bureau of Ocean Energy Management

[17XM1917XD/MMLL100000/MD1EV0000.AAX00]

Proposed Information Collection: Beachgoer and Vessel Surveys

AGENCY: Bureau of Ocean Energy Management, Interior.

ACTION: 60-day notice and request for comments.

SUMMARY: In compliance with the Paperwork Reduction Act, the Bureau of Ocean Energy Management (BOEM) will ask the Office of Management and Budget (OMB) to approve a collection of information to support ocean observation planning and management on public lands and waters. The respondents will be recreationists visiting public and private Gulf Coast beaches, and coastal and offshore vessel (boat) operators in the Gulf of Mexico region. The BOEM invites public comments on this proposed collection. A Federal agency may not conduct or sponsor, and a person is not required to respond to, a collection of information unless it displays a currently valid OMB control number.

DATES: Please submit comments on the proposed information collection by February 17, 2017.

ADDRESSES: Comments may be submitted by mail, fax, or electronic mail.

Mail: Information Collection Clearance Officer, Anna Atkinson, U.S. Department of the Interior, Bureau of Ocean Energy Management, 45600 Woodland Road, Sterling, VA 20166.

Fax: to Anna Atkinson at 703-787-1209.

Electronic mail: anna.atkinson@boem.gov.

Please indicate “Attn: 1010-XXXX” regardless of the form of your comments.

FOR FURTHER INFORMATION CONTACT: Dr. Rex Caffey, Louisiana State University, Center for Natural Resource Economics & Policy, Baton Rouge, LA 70803; email: rcaffey@agcenter.lsu.edu; or phone: 225-578-2393.

SUPPLEMENTARY INFORMATION: OMB regulations at 5 CFR part 1320, which implement provisions of the Paperwork Reduction Act, 44 U.S.C. 3501-3521, require that interested members of the public and affected agencies be given an opportunity to comment on information collection and recordkeeping activities (see 5 CFR 1320.8 (d) and 1320.12(a)). This notice identifies an information collection that the BOEM plans to submit to OMB for approval. The Paperwork Reduction Act provides that an agency may not conduct or sponsor a collection of information unless it displays a currently valid OMB control number. Until OMB approves a collection of information, you are not obligated to respond.

I. Abstract

BOEM manages the exploration and development of oil, natural gas and other minerals and renewable energy alternatives on the nation's Outer Continental Shelf (OCS). Section 1346 of the Outer Continental Shelf Lands Act (OCSLA) mandates the conduct of environmental and socioeconomic studies needed for the assessment and management of environmental impacts on the human, marine, and coastal environments which may be affected by oil and gas, renewable energy, or other mineral development. Section 1345 of OCSLA authorizes the use of cooperative agreements with affected States to meet the requirements of OCSLA, which may include, but not be limited to, the sharing of information, the joint utilization of available expertise, the facilitating of permitting procedures, joint planning and review, and the formation of joint surveillance and monitoring arrangements to carry out applicable Federal and State laws, regulations, and stipulations relevant to the OCS operations both onshore and offshore.

This data collection effort is necessary in order to monetarily value benefits of coastal and oceanic data collected in the U.S. Gulf of Mexico, as part of the Gulf of Mexico Coastal Ocean Observing System (GCOOS). Information on the economic value of regional ocean observations is critical for sustained public and private support for the GCOOS, especially as the costs of operation and maintenance for ocean monitoring systems are questioned in Federal, State, and private budgetary processes.

The data collection effort is part of a cooperative agreement between the Environmental Studies Program (ESP) of the BOEM and the Louisiana Coastal Marine Institute (CMI) at Louisiana State University (LSU). The objective of the ESP is to support research in topics that serve the public interest of safe and environmentally sound energy production and meet the goals of the BOEM.

The GCOOS is a regional ocean observing system consisting of Federal, State, and local infrastructure. The system provides a wide array of science-based data to both public and private sector decision makers tasked with the management of human-built infrastructure, centers of population, and environmental and natural resources in the southeastern United States. As a component of the U.S. Integrated Ocean Observing System (IOOS), the overall goal of GCOOS is to provide the science-based biological, chemical, and physical data, along with the appropriate analytic tools, that are needed by society to address important short- and long-term management problems associated with marine industrial operations (marine transportation, oil and gas exploration and production), coastal hazards (offshore obstructions, pollutant spill tracking, conditions for offshore operations), public health and safety (forecasting harmful algal bloom movement, search and rescue), healthy ecosystems, and water quality. The information provided through GCOOS supports the policy mandates and objectives of a number of Federal agencies, including the BOEM, National Marine Fisheries Service, Environmental Protection Agency, and the U.S. Geological Survey.

The information collection will be led by researchers at Louisiana State University and Mississippi State University, who will conduct two surveys to assess the impact of an improved and expanded GCOOS. The surveys will gauge public perceptions of coastal and ocean-related data and information products and how improvements to these could impact future recreation, boating, and weather-related preparation/evacuation choices. This information collection request covers two proposed surveys, which collect necessary data from residents of Texas, Louisiana, Mississippi, Alabama, and Florida. This information is not otherwise available.

We will use the information from these surveys to gauge public perceptions of coastal and oceanic data collected in the U.S. Gulf of Mexico, as part of the GCOOS, and to estimate how improvements and expansions of the GCOOS could affect future recreation, boating, and hurricane preparation/evacuation choices.

A Beachgoers Survey will be utilized to gauge preferences for, and valuation of, GCOOS-derived information to inform coastal access via land. A Vessel Survey will gauge the associated preferences and values of GCOOS information for informing decision-making for coastal and marine boating.

The data collection for the Beachgoers Survey will be conducted using an internet-based survey, administered to members of the GfK Custom Research Knowledge Panel. No personally identifiable information will be collected. The survey will cover beachgoers, and is divided into three parts. The first part is an introduction wherein the purpose of the survey is discussed, highlighting the cooperating agencies, institutions and organizations, the Paperwork Reduction Act of 1995, and a privacy statement. Respondents will be screened for those who have made a trip to a Gulf beach in the last 12 months. Another question will inquire about one's beach activities, which is used to help categorize beach use.

The second part of the survey introduces the beach conditions monitoring system and Web site currently available for select beaches in Florida, and asks questions about which beach conditions are most important to respondents when visiting or planning a visit to a beach. It then proposes a hypothetical program that would expand the beach conditions monitoring Web site to a larger set of beaches across all five Gulf Coast states. Following the introduction of the hypothetical program, respondents will be asked whether they would be willing to support the proposed expanded program if it were to cost a randomly-assigned amount of money per household to provide it, using standard contingent-valuation methods. The third section closes with a series of demographic and general awareness questions.

Data collection for the Vessel Survey will be conducted using both postal and Internet surveying, depending on respondent preference. This survey will cover a representative sample of registered vessel owners in the five Gulf Coast states. The first part will introduce the purpose of the survey, highlighting the cooperating agencies, institutions and organizations, the Paperwork Reduction Act of 1995, and a privacy statement. Basic information on the respondent's coastal and marine boating history in the last 12 months will then be requested. These questions will address necessary information related to the primary vessel utilized and associated type and duration of activities (e.g. fishing, sailing, research, etc.).

The second part of the survey gauges respondent use of specific types of ocean monitoring information (current observations and forecasted conditions), and their preference for general categories of GCOOS-based information. A follow-up question proposes a hypothetical program that would expand the GCOOS infrastructure by 40%. Following the introduction of the hypothetical program, respondents will be asked whether they would be willing to support the proposed expanded program if it were to cost a randomly-assigned amount of money per household to provide it, using standard contingent-valuation methods. The third section of this survey closes with some basic demographics from the participants. No personally identifiable information will be collected.

II. Data

The following information pertains to this request:

Title: GCOOS Beachgoers and Vessel Surveys.

OMB Control Number: This is a new collection; 1010-XXXX.

Description of Respondents: General-population beachgoers and coastal-marine vessel owners/operators in the five Gulf Coast states.

Respondent Obligation: Voluntary.

Frequency of Collection: These would be one-time collections, which would take place over a 1-2 month collection period.

Estimated Annual Responses: 1,100 completed Beachgoers Survey responses, 4,138 non-response and dropout Beachgoers Survey responses; 1,066 completed Vessel Survey responses, 4,014 non-response and dropout Vessel Survey responses; total of 10,318 estimated responses.

Estimated Annual Burden Hours: We estimate the estimated burden of response to be 15 minutes for completed surveys and 3 minutes for non-response/dropout responses, for a total of 950 estimated annual burden hours.

Estimated Annual Non-Hour Costs: There is no non-hour cost burden associated with this collection.

The estimated burdens are itemized in the following table:

Type of response | Number of responses | Time per response (minutes) | Total hours (Col. B × Col. C/60 minutes)
A. | B. | C. | D.
Beachgoer Survey: Complete respondents | 1100 | 15 | 275
Beachgoer Survey: Non-respondents and drop-outs | 4138 | 3 | 207
Vessel Survey: Complete respondents | 1066 | 15 | 267
Vessel Survey: Non-respondents and drop-outs | 4014 | 3 | 201
Total | 10318 |  | 950

III. Request for Comments

Comments are invited on: (1) The practical utility of the information being gathered; (2) the accuracy of the agency's burden estimates; (3) ways to enhance the quality, utility and clarity of the information collection; and (4) ways to minimize the information collection burden on respondents, such as use of automated means of collection of the information.

Agencies must also estimate the non-hour cost burdens to respondents or recordkeepers resulting from the collection of information. Therefore, if you have costs to generate, maintain, and disclose this information, you should comment and provide your total capital and startup costs or annual cost components or annual operation, maintenance, and purchase of service components. You should describe the methods you use to estimate major cost factors, including system and technology acquisition, expected useful life of capital equipment, discount rate(s), and the period over which you incur costs. Capital and startup costs include, among other items, computers and software you purchase to prepare for collecting information, monitoring, and record storage facilities. You should not include estimates for equipment or services purchased: (a) Before October 1, 1995; (b) to comply with requirements not associated with the information collection; (c) for reasons other than to provide information or keep records for the Government; or (d) as part of customary and usual business or private practices. We will summarize written responses to this notice and address them in our submission for OMB approval. Please note that the comments submitted in response to this notice are a matter of public record. We will include or summarize each comment in our request to OMB to approve this IC. As a result of your comments, we will make any necessary adjustments to the burden in our submission to OMB.

Public Disclosure Statement: OMB regulations at 5 CFR part 1320, which implement provisions of the Paperwork Reduction Act, 44 U.S.C. 3501-3521, require that interested members of the public and affected agencies be given an opportunity to comment on information collection and recordkeeping activities (see 5 CFR 1320.8 (d) and 1320.12(a)). This notice identifies an information collection that the BOEM plans to submit to OMB for approval. The Paperwork Reduction Act provides that an agency may not conduct or sponsor a collection of information unless it displays a currently valid OMB control number. Until OMB approves a collection of information, you are not obligated to respond.

Public Availability of Comments: Before including your address, phone number, email address, or other personal identifying information in your comment, you should be aware that your entire comment—including your personal identifying information—may be made publicly available at any time. While you can ask us in your comment to withhold your personal identifying information from public review, we cannot guarantee that we will be able to do so.

Dated: December 9, 2016.
Deanna Meyer-Pietruszka,
Chief, Office of Policy, Regulation, and Analysis.

[FR Doc. 2016-30353 Filed 12-16-16; 8:45 am]

BILLING CODE 4310-MR-P